DEPARTMENT OF TRANSPORTATION

Federal Aviation Administration

Airport Compliance Program

AGENCY: Federal Aviation Administration, Department of Transportation.

ACTION: Notice of availability of FAA Order 5190.6B, Change 1, Airport Compliance Manual.

This notice announces the availability of revisions to five chapters of FAA Order 5190.6B, Airport Compliance Manual, originally issued in September 2009. Order 5190.6B provides guidance to FAA employees on the implementation of the FAA's airport compliance program. Under the program, the FAA has the responsibility to assure airport sponsors comply with certain obligations that arise from FAA grant agreements and from deeds of property conveyance for airport use. The FAA is undertaking this update to ensure Order 5190.6B is accurate and consistent with current law and practice. As FAA updates Order 5190.6B, revised chapters will be available electronically at: https://www.faa.gov/airports/resources/publications/orders/compliance_5190_6/.

The FAA will identify the date of the update on each page of the Order.

The updated Order will be identified as FAA Order 5190.6B, Change 1. Each change will be numbered until the entire Order is updated. When this is complete, the new Order will be 5190.6C.

At this time, the FAA has completed revisions to five chapters. The revised chapters can be found at: https://www.faa.gov/airports/resources/publications/orders/compliance_5190_6/.

The updated chapters include: Chapter 1, Scope and Authority; Chapter 9, Unjust Discrimination between Aeronautical Users; Chapter 10, Reasonable Commercial Minimum Standards; Chapter 11, Self-Service; and Chapter 23, Reversions of Airport Property. Each of the five chapters has been updated to remain current with Federal statutes, correct or update references to regulations, orders or other authorities, and make editorial changes. The FAA will revise the remaining chapters in the Order to reflect statutory changes, update or correct references to authorities, or make editorial changes. The FAA will provide electronic notice on its website, a summary of the changes to each chapter, and electronically update the Order.

DATES: Revisions to Chapters 1, 9, 10, 11, and 23 of FAA Order 5190.6 are effective upon the date of publication of this notice. Subsequent revisions to chapters will be posted electronically at: https://www.faa.gov/airports/resources/publications/orders/compliance_5190_6/.

FOR FURTHER INFORMATION CONTACT: Lorraine Herson-Jones, Manager, Airport Compliance Division, ACO-100, Federal Aviation Administration, 800 Independence Avenue SW, Washington, DC 20591, telephone (202) 267-3085; facsimile: (202) 267-4629.

Availability of Documents: FAA Order 5190.6BB, Change 1 is available on the FAA website at: https://www.faa.gov/airports/resources/publications/orders/compliance_5190_6/.

You can get an electronic copy of the Order and all other documents in this docket using the internet by:

(1) Visiting FAA's Regulations and Policies web page: https://www.faa.gov/regulations_policies

—or—

(2) Accessing the Government Printing Office's web page: http://www.govinfo.gov/index.html.

You can also get a copy by sending a request to the Federal Aviation Administration, Office of Airport Compliance and Management Analysis, 800 Independence Avenue SW, Washington, DC 20591, or by calling (202) 267-3085. Make sure to identify the FAA Order number being requested.

SUPPLEMENTARY INFORMATION:

Background

The FAA administers several grant programs for airports, including the Airport Improvement Program (AIP), established by the Airport and Airway Improvement Act of 1982 as amended, 49 U.S.C. 47101 et seq., (AAIA).¹ Section 47107 requires the Secretary of Transportation to obtain certain assurances from an airport operator as a condition of receiving a grant under the AIP. The FAA implements this requirement with a standard set of grant assurances for airport sponsors which can be viewed on the FAA Airports website at: https://www.faa.gov/airports/aip/grant_assurances/.

¹ FAA also administers CARES, CRSSA and ARPA grants. These new grant programs are beyond the scope of this guidance. For more information, see https://www.faa.gov/airports/airport_rescue_grants/.

The FAA has issued a series of compliance manuals for the administration of the AIP and its predecessor grant programs. Order 5190.6, Airport Compliance Requirements, was issued on August 24, 1973. Order 5190.6 was canceled and replaced by Order 5190.6A, Airport Compliance Requirements, on October 2, 1989. Order 5190.6A was replaced by Order 5190.6B on September 30, 2009. Each of these orders respectively, while in effect, has served as the handbook or manual for FAA employees responsible for monitoring and enforcing the compliance of airport sponsors with obligations to the Federal government. Those obligations most commonly arise from conditions or assurances contained in agreements with the FAA for grants in aid to airports. In addition to grant obligations, an airport sponsor may also have Federal obligations under a deed of property transferred under the Surplus Property Act of 1944, as amended, 49 U.S.C. 47151-47153, or the Federal Airports Act of 1946, as amended, 49 U.S.C. 47125, or property acquired with Federal funds.

Since 2009, there have been changes to the laws and policies relating to the Federal obligations of airport sponsors and revisions to the procedures for investigating and resolving complaints that allege noncompliance. The Office of Airport Compliance and Management Analysis has worked closely with industry stakeholders since the Order was last updated in 2009 to gain the best understanding of issues of concern. Where applicable, the changes in this updated Order reflect feedback from industry stakeholders. Stakeholders may contact the Office of Airport Compliance and Management Analysis with additional concerns so that they may be considered for future updates to the Order. To incorporate any changes and provide the most useful and current program guidance to FAA employees, the Office of Airport Compliance and Management Analysis is undertaking a review of the Order and will publish updates as the chapter reviews are completed. The updated FAA Order 5190.6B will be located on the FAA website. Concurrent with this notice, the FAA has uploaded the first revised chapters to the Order, referred to as Order 5190.6B, Change 1. These are: Chapter 1, Scope and Authority; Chapter 9, Unjust Discrimination between Aeronautical Users; Chapter 10, Reasonable Commercial Minimum Standards; Chapter 11, Self-Service; and Chapter 23, Reversions of Airport Property.

The FAA considered comments received to Order 5190.6B and updates to Chapters 1, 9, 10, 11, and 23 reflect the major issues raised. Updates to the Order's appendices also are included with this update.

Summary of Changes to Order 5190.6B

• After review of public comments and experience since 2009 with using Order 5190.B, the FAA is updating the Order starting with Chapters 1, 9, 10, 11, and 23 of the Order.

• Many of these changes are editorial and intended to clarify language based on suggestions received in public comments or recommendations from FAA employees.

• In other cases, the Order has been updated to align with new or revisions to Federal statutes, regulations, or orders which have been enacted or revised since 2009.

• Edits and additions to the revised chapters are intended to provide accurate and useful guidance on airport compliance policy for FAA employees and not to adopt significant changes in compliance policy. A summary of the changes will be posted on the FAA website as future chapters are revised.

In addition to updating these five chapters listed above, the agency has revised several of the appendices to Order 5190.6B. The changes update citations and documents to provide current versions, delete obsolete references, and include more recent sample documents. As part of the updates, Appendices E-1, F-3, G-1, and S have been removed.

Future Updates to Order

The FAA is continuing its review of all chapters of Order 5190.6B and will publish updates to the Order as it completes each review. Chapters may be updated individually or in related groups. These updates will reflect statutory, administrative, or clerical changes. It is intended that the Order will continue to be updated periodically as changes in statutes, regulations, or orders occur.

The most current version of the updated chapters will be maintained at: https://www.faa.gov/airports/resources/publications/orders/compliance_5190_6/.

Each chapter will contain the date of its most recent update.

Notice of Availability

FAA Order 5190.6B.1, Airport Compliance Manual, with the updated Chapters 1, 9, 10, 11 and 23, is available at the locations listed in the “Availability of Documents” section of this notice.

Issued in Washington, DC.
Kevin C. Willis,
Director, FAA, Office of Airport Compliance and Management Analysis.

[FR Doc. 2021-25936 Filed 12-2-21; 8:45 am]

BILLING CODE 4910-13-P